FEDERAL ELECTION COMMISSION

Sunshine Act Meetings

FEDERAL REGISTER CITATION NOTICE OF PREVIOUS ANNOUNCEMENT: 88 FR 39847.

PREVIOUSLY ANNOUNCED TIME AND DATE OF THE MEETING: Thursday, June 22, 2023 at 10:30 p.m.

CHANGES IN THE MEETING: The time of the meeting is 10:30 a.m.

CONTACT PERSON FOR MORE INFORMATION: Judith Ingram, Press Officer, Telephone: (202) 694-1220.

(Authority: Government in the Sunshine Act, 5 U.S.C. 552b)

Submitted: June 20, 2023.
Laura E. Sinram,
Secretary and Clerk of the Commission.

[FR Doc. 2023-13448 Filed 6-21-23; 11:15 am]

BILLING CODE 6715-01-P